DEPARTMENT OF COMMERCE

International Trade Administration

[A-570-881]

Continuation of Antidumping Duty Order on Malleable Cast Iron Pipe Fittings From the People's Republic of China

AGENCY: International Trade Administration, Department of Commerce.

DATES: Effective Date: April 22, 2009.

SUMMARY: As a result of the determinations by the Department of Commerce (“Department”) and the International Trade Commission (“ITC”) that revocation of the antidumping duty order on malleable cast iron pipe fittings (“malleable pipe fittings”) from the People's Republic of China (“PRC”) would likely lead to a continuation or recurrence of dumping and material injury to an industry in the United States, the Department is publishing a notice of continuation of the antidumping duty order.

FOR FURTHER INFORMATION CONTACT: Paul Stolz or Sergio Balbontín, AD/CVD Operations, Import Administration, International Trade Administration, U.S. Department of Commerce, 14th Street & Constitution Avenue, NW., Washington, DC 20230; telephone: (202) 482-4474 or (202) 482-6478, respectively.

SUPPLEMENTARY INFORMATION: On November 3, 2008, the Department published the notice of initiation of the sunset review of the antidumping duty order on malleable pipe fittings from the PRC pursuant to section 751(c) of the Tariff Act of 1930, as amended (“the Act”). See Initiation of Five-year (“Sunset”) Review, 73 FR 65292 (November 3, 2008).

As a result of its review, the Department determined that revocation of the antidumping duty order on malleable pipe fittings from the PRC would likely lead to a continuation or recurrence of dumping and, therefore, notified the ITC of the magnitude of the margins likely to prevail should the order be revoked. See Malleable Cast Iron Pipe Fittings from the People's Republic of China: Final Results of the Expedited Sunset Review of the Antidumping Duty Order, 74 FR 10239 (March 10, 2009).

On April 9, 2009, the ITC determined, pursuant to section 751(c) of the Act, that revocation of the antidumping duty order on malleable pipe fittings from the PRC would likely lead to a continuation or recurrence of material injury to an industry in the United States within a reasonably foreseeable future. See Malleable Iron Pipe Fittings from China (Inv. No. 731-TA-1021 (Review)), USITC Publication 4069 (April 2009) and 74 FR 16233 (April 9, 2009).

Scope of the Order

The products covered by the antidumping duty order are certain malleable iron pipe fittings, cast, other than grooved fittings, from the PRC. The merchandise is classified under item numbers 7307.19.90.30, 7307.19.90.60 and 7307.19.90.80 of the Harmonized Tariff Schedule (HTSUS). Excluded from the scope of the order are metal compression couplings, which are imported under HTSUS number 7307.19.90.80. A metal compression coupling consists of a coupling body, two gaskets, and two compression nuts. These products range in diameter from ½ inch to 2 inches and are carried only in galvanized finish. Although HTSUS subheadings are provided for convenience and customs purposes, the Department's written description of the scope of this proceeding is dispositive.

Continuation of the Order

As a result of these determinations by the Department and the ITC that revocation of the antidumping duty order would likely lead to a continuation or recurrence of dumping and material injury to an industry in the United States, pursuant to section 751(d)(2) of the Act, the Department hereby orders the continuation of the antidumping order on malleable pipe fittings from the PRC. United States Customs and Border Protection will continue to collect antidumping duty cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (sunset) review and this notice are in accordance with section 751(c) of the Act and published pursuant to section 777(i)(1) of the Act.

Dated: April 16, 2009.
Ronald K. Lorentzen,
Acting Assistant Secretary for Import Administration.

[FR Doc. E9-9242 Filed 4-21-09; 8:45 am]

BILLING CODE 3510-DS-P